DEPARTMENT OF COMMERCE

International Trade Administration

[A-570-970]

Multilayered Wood Flooring From the People's Republic of China: Initiation of Antidumping Duty New Shipper Review

AGENCY: Import Administration, International Trade Administration, Department of Commerce.

SUMMARY: The Department of Commerce (“Department”) has determined that a request for a new shipper review (“NSR”) of the antidumping duty order on multilayered wood flooring from the People's Republic of China (“PRC”) meets the statutory and regulatory requirements for initiation. The period of review (“POR”) for this NSR is May 26, 2011, through May 31, 2012.

DATES: Effective Date: July 31, 2012.

FOR FURTHER INFORMATION CONTACT: Brandon Farlander or Erin Kearney, AD/CVD Operations, Office 4, Import Administration, International Trade Administration, U.S. Department of Commerce, 14th Street and Constitution Avenue NW., Washington, DC 20230; telephone: 202-482-0182 or 202-482-0167, respectively.

SUPPLEMENTARY INFORMATION:

Background

The notice announcing the antidumping duty order on multilayered wood flooring from the PRC was published in the Federal Register on December 8, 2011.¹ On June 28, 2012, pursuant to section 751(a)(2)(B)(i) of the Tariff Act of 1930, as amended (“Act”), and 19 CFR 351.214(b), the Department received an NSR request from Power Dekor Group Co., Ltd. (“Power Dekor”). Power Dekor's request was made in June 2012, which is the semiannual anniversary month of the order.²

¹ See Multilayered Wood Flooring From the People's Republic of China: Amended Final Determination of Sales at Less Than Fair Value and Antidumping Duty Order, 76 FR 76690 (December 8, 2011) (“Order”).

² See 19 CFR 351.214(d).

In its submission, Power Dekor certified that it is the exporter of the subject merchandise upon which the request was based. Pursuant to section 751(a)(2)(B)(i)(I) of the Act and 19 CFR 351.214(b)(2)(i), Power Dekor certified that it did not export multilayered wood flooring to the United States during the period of investigation (“POI”). Further, pursuant to 19 CFR 351.214(b)(2)(ii)(B), Guangzhou Homebon Timber Manufacturing Co., Ltd. (“Guangzhou Homebon”), the producer of subject merchandise exported by Power Dekor, certified that it did not export subject merchandise to the United States during the POI. Pursuant to section 751(a)(2)(B)(i)(II) of the Act and 19 CFR 351.214(b)(2)(iii)(A), Power Dekor and Guangzhou Homebon certified that, since the initiation of the investigation, they have not been affiliated with a PRC exporter or producer who exported multilayered wood flooring to the United States during the POI, including those not individually examined during the investigation. As required by 19 CFR 351.214(b)(2)(iii)(B), Power Dekor and Guangzhou Homebon also certified that their export activities were not controlled by the central government of the PRC.

In addition to the certifications described above, pursuant to 19 CFR 351.214(b)(2)(iv), Power Dekor submitted documentation establishing the following: (1) The date on which Power Dekor first shipped multilayered wood flooring for export to the United States and the date on which the multilayered wood flooring was first entered, or withdrawn from warehouse, for consumption; (2) the volume of its first shipment; and (3) the date of its first sale to an unaffiliated customer in the United States.

The Department conducted U.S. Customs and Border Protection (“CBP”) database queries in an attempt to confirm that Power Dekor's shipments of subject merchandise had entered the United States for consumption and that liquidation of such entries had been properly suspended for antidumping duties. The Department also examined whether the CBP data confirmed that such entries were made during the NSR POR.³ The information which the Department examined was consistent with that provided by Power Dekor in its request.⁴

³ See July 25, 2012, memorandum to the file, regarding “U.S. Customs and Border Protection Data.”

⁴ See Memorandum to the File titled “Initiation of Antidumping New Shipper Review of Multilayered Wood Flooring from the People's Republic of China: Power Dekor Group Co., Ltd.” (“Initiation Checklist”) dated concurrently with this notice.

Period of Review

In accordance with 19 CFR 351.214(g)(1)(ii)(B), the POR for an NSR initiated in the month immediately following the first semiannual anniversary month normally will cover the period from the date of suspension of liquidation to the end of the month immediately preceding the first semiannual anniversary month. Therefore, the POR for this NSR is May 26, 2011, through May 31, 2012. The sales and entries into the United States of subject merchandise produced by Guangzhou Homebon and exported by Power Dekor occurred during this POR.

Initiation of New Shipper Review

Pursuant to section 751(a)(2)(B) of the Act and 19 CFR 351.214(b), the Department finds that the request submitted by Power Dekor meets the threshold requirements for initiation of an NSR for the shipment of multilayered wood flooring from the PRC produced by Guangzhou Homebon and exported by Power Dekor.⁵ However, if the information supplied by Power Dekor is later found to be incorrect or insufficient during the course of this proceeding, the Department may rescind the review or apply adverse facts available pursuant to section 776 of the Act, depending upon the facts on record. The Department intends to issue the preliminary results of this NSR no later than 180 days from the date of initiation, and the final results no later than 90 days from the issuance of the preliminary results.⁶

⁵ See Initiation Checklist.

⁶ See section 751(a)(2)(B)(iv) of the Act.

It is the Department's usual practice, in cases involving non-market economies, to require that a company seeking to establish eligibility for an antidumping duty rate separate from the country-wide rate provide evidence of de jure and de facto absence of government control over the company's export activities. Accordingly, the Department will issue a questionnaire to Power Dekor, which will include a section requesting information with regard to Power Dekor's export activities for separate rates purposes. The review will proceed if the response provides sufficient indication that Power Dekor is not subject to either de jure or de facto government control with respect to its export of subject merchandise.

The Department will instruct CBP to allow, at the option of the importer, the posting, until the completion of the review, of a bond or security in lieu of a cash deposit for each entry of the subject merchandise from Power Dekor in accordance with section 751(a)(2)(B)(iii) of the Act and 19 CFR 351.214(e). Because Power Dekor certified that Guangzhou Homebon produced and Power Dekor exported the subject merchandise, the Department will apply the bonding privilege to Power Dekor for all subject merchandise produced by Guangzhou Homebon and exported by Power Dekor.

To assist in its analysis of the bona fides of Power Dekor's sales, upon initiation of this new shipper review, the Department will require Power Dekor to submit on an ongoing basis complete transaction information concerning any sales of subject merchandise to the United States that were made subsequent to the POR.

Interested parties requiring access to proprietary information in this NSR should submit applications for disclosure under administrative protective order in accordance with 19 CFR 351.305 and 19 CFR 351.306. This initiation and notice are in accordance with section 751(a)(2)(B) of the Act and 19 CFR 351.214 and 19 CFR 351.221(c)(1)(i).

Dated: July 25, 2012.
Christian Marsh,
Deputy Assistant Secretary for Antidumping and Countervailing Duty Operations.

[FR Doc. 2012-18675 Filed 7-30-12; 8:45 am]

BILLING CODE 3510-DS-P